EXPORT-IMPORT BANK OF THE UNITED STATES

Economic Impact Policy

This notice is to inform the public that the Export-Import Bank of the United States has received an application to finance the export of approximately $81.6 million in U.S. equipment and services to Saudi Arabia to construct a Direct Reduced Iron (DRI) production facility. The DRI produced by this plant will be an input used in the production of about 1.2 million metric tons per year of hot rolled coil steel in the same production complex. Available information indicates that the hot rolled coil will be sold in Saudi Arabia, the Middle East and North Africa starting in early 2008. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 05-11003 Filed 6-2-05; 8:45 am]

BILLING CODE 6690-01-P